DEPARTMENT OF COMMERCE

National Oceanic and Atmospheric Administration

[RTID 0648-XE276]

North Pacific Fishery Management Council; Public Meeting

AGENCY: National Marine Fisheries Service (NMFS), National Oceanic and Atmospheric Administration (NOAA), Commerce.

ACTION: Notice of hybrid meeting.

SUMMARY: The North Pacific Fishery Management Council's (Council) Fishery Monitoring Advisory Committee (FMAC) will meet September 25, 2024.

DATES: The meetings will be held on Wednesday, September 25, 2024, from 8:30 a.m. to 4 p.m., Alaska Time.

ADDRESSES:

Meeting address: For members attending in Seattle, the in-person component of the meeting will be held at the Alaska Fishery Science Center in room 2079, 7600 Sand Point Way NE, Building 4, Seattle, WA 98115.

If you plan to attend in-person, you need to notify Sara Cleaver (sara.cleaver@noaa.gov) at least 2 days prior to the meeting (or 2 weeks prior if you are a foreign national). You will also need a valid U.S. Identification Card. If you are attending virtually, join the meeting online through the link at https://meetings.npfmc.org/Meeting/Details/3059.

Council address: North Pacific Fishery Management Council, 1007 W 3rd Ave, Suite 400, Anchorage, AK 99501-2252; telephone: (907) 271-2809. Instructions for attending the meeting are given in the SUPPLEMENTARY INFORMATION below.

FOR FURTHER INFORMATION CONTACT: Sara Cleaver, Council staff; telephone: (907) 271-2809; email: sara.cleaver@noaa.gov. For technical support, please contact Council administrative staff, email: npfmc.admin@noaa.gov.

SUPPLEMENTARY INFORMATION:

Agenda

Wednesday, September 25, 2024

The September 2024 FMAC agenda will include: (a) updates since the last FMAC meeting; (b) the Observer availability discussion paper; (c) review of NFWF (National Fish and Wildlife Foundation) EM (electronic monitoring) proposals, and (d) other business. The agenda is subject to change, and the latest version will be posted at https://meetings.npfmc.org/Meeting/Details/3059 prior to the meeting, along with meeting materials.

Connection Information

You can attend the meeting online using a computer, tablet, or smartphone; or by phone only. Connection information will be posted online at: posted at https://meetings.npfmc.org/Meeting/Details/3059. If you are attending the meeting in-person, please note that all attendees will be required to wear a mask.

Public Comment

Public comment letters will be accepted and should be submitted electronically to posted at https://meetings.npfmc.org/Meeting/Details/3059.

Authority: 16 U.S.C. 1801 et seq.

Dated: September 6, 2024.
Rey Israel Marquez,
Acting Deputy Director, Office of Sustainable Fisheries, National Marine Fisheries Service.

[FR Doc. 2024-20566 Filed 9-10-24; 8:45 am]

BILLING CODE 3510-22-P